DEPARTMENT OF COMMERCE

National Institute of Standards and Technology

Announcement of Meeting and Opportunity to Join the Biometric Interoperability, Performance, and Assurance Working Group

AGENCY: National Institute of Standards and Technology, Commerce.

ACTION: Notice of public meeting.

SUMMARY: The National Institute of Standards and Technology (NIST) invites interested parties to attend the kick-off meeting of the Biometric Interoperability, Performance, and Assurance Working Group on September 12, 2000 at NIST in Gaithersburg, Maryland from 8:30 AM to 4:00 PM. The Biometric Interoperability, Performance, and Assurance Working Group will operate under the umbrella of the US Biometric Consortium (BC). The goal of this Working Group is to provide a forum for its members to address issues related to biometrics interoperability, performance metrics, user's requirements, and biometrics assurance. The Working Group is being formed to facilitate and encourage, under the Biometric Consortium, further exchange of information and collaborative efforts between users and private industry in all things biometric. It intends to support further advancement of technical efficient and compatible biometrics technology solutions on a national and international basis by addressing required issues and efforts other than current development already undertaken by other national or international organizations (e.g., formal standards, industrial consortium developments, on-going testing developments, etc.). NIST will make available the Working Group membership agreement at the US Biometric Consortium Web page: http://www.biometrics.org

DATES: The meeting will take place on September 12, 2000 from 8:30 AM to 4:00 PM in Gaithersburg, MD.

ADDRESSES: The meeting will be held at the National Institute of Standards and Technology, Administration Building, 100 Bureau Drive, Gaithersburg, MD, 20899.

FOR FURTHER INFORMATION CONTACT: Fernando Podio, Co-Chair, Biometric Consortium, 100 Bureau Drive, Stop 8951, Gaithersburg, MD, 20899; Telephone (301) 975-2947; Fax (301) 869-7429; E-mail: Podio@biometrics.org. The Working Group meeting will be co-located with the Biometric Consortium 2000 Conference to be held at NIST on September 13 and 14. Information on accommodations, transportation and an area map may be found on the World Wide Web at the biometric Consortium Conference Web page: http://www.nist.gov/bc2000.

SUPPLEMENTARY INFORMATION:

Working Group Goals

The Working Group's goals will include: (1) Providing the users with further opportunities under the Biometric Consortium to interact with private industry on issues related to the development of the required performance metrics and standards that would reflect their needs; (2) Developing guidelines and tests to accomplish effective-enhancing and technically compatible technologies on a non-discriminatory, voluntary, multi-vendors basis; (3) Conducting appropriate research, including research prototype activities among its members, and informational activities as required; (4) Developing functional specifications, measurements, test sequences, demonstrations, corresponding publications and other activities as required; (5) Biometrics integration with other technologies (e.g., smart cards and PKI) may impose additional performance metrics and technical specifications (they will also be addressed as required); (6) in the absence of required formal standards, developing submissions to appropriate industry forums and standards bodies that facilitate the evolution of standards; and, (7) Task Forces to address specific issues will be formed as required.

The BC Working Group will seek strong coordination of its activities with other organizations to improve efficiency of operations and to avoid duplication of their efforts. It intends to establish liaisons with other organizations that are involved with biometric technology developments including industrial organizations and Government efforts.

More details on the planned activities are provided in the BC Working Group membership agreement. A preliminary list of topics that will be addressed in this forum include: (1) User requirements on interoperability, performance and standards; (2) Interoperability tests; (3) Performance metrology; (4) biometric data interchange; (5) Quality; and, (6) Biometrics Assurance.

Background

The US Biometric Consortium (BC) serves as the Government's focal point for research, development, testing, evaluation, and application of biometric-based personal identification and verification technology. It currently has over seven hundred members from private industry, Federal/State/local government, and academia. Sixty different federal agencies are represented in the Consortium. The BC, NIST and NSA sponsor research and other industry and user activities, as needed. The Biometric Consortium is co-chaired by Jeffrey S. Dunn and Fernando L. Podio.

As defined by the US Biometric Consortium, biometrics are automated methods of recognizing a person based on a physiological or behavioral characteristic. In the context of this Working Group, biometrics may be used for personal verification (one to one matching) applications and personal identification (one to many) applications.

The Biometric Consortium, NIST (through the Information Technology Laboratory (ITL)), and NSA (through the Research and Advance Development Group) collaborate in fostering and conducting research in biometrics technologies and small cards to assist users and these industries in developing new technology capabilities, testing methodologies and standards. These efforts are in support of information security, electronic commerce, and other identification and authentication applications.

NIST ITL's Biometrics and Smart Cards program is supporting the biometric and smart card industries and users by expanding ITL's role to new and challenging research and development (R&D), testing, standards and implementation efforts. These efforts include biometrics R&D, metrology and standards, biometrics and smart card integration, and the development of biometrics and smart cards experimental applications. NIST has a role in measurements and standards for Electronic Commerce. Through ITL's Biometrics and Smart Cards program, NIST is developing a biometric interface for electronic commerce. NIST is working with the biometrics industry on the development of the required biometric standards that will assure biometrics application developers, service providers, and users that the required interoperable biometric solutions will be available.

NSA conducts one of the U.S. Government's leading research and development programs. Some of the Agency's R&D projects have significantly advanced the state of the art in the scientific and business words. NSA's early interest in cryptanalytic research led to the first large-scale computer and the first solid-state computer, predecessors to the modern computer. NSA pioneered efforts in flexible storage capabilities, which led to the development of the tape cassette. NSA also made ground-breaking developments in semiconductor technology and remains a world leader in many technological fields. As part of the INFOSEC mission, NSA conducts research on new technologies that may be used to protect information technology systems. For several years, NSA has been researching biometric technologies that may be useful to prevent unauthorized access to critical systems.

The BC, NIST/ITL and NSA (INFOSEC) co-sponsor, organize, and participate in technical research and other industry/user's technical activities as required. Some of year 2000 efforts include:

• The development of a Common Biometric Exchange File Format (CBEFF)

• Co-sponsorship of a Bio API Users and Developers Seminar

• Co-sponsorship of a DoD PKI Target Class 4 Token Security Requirements Workshop

• Co-sponsorship of BioAPI Consortium meetings

The BC, NIST/ITL, and NSA (INFOSEC) are also supporting other government organizations and the entire community. They are currently advisors and working in collaboration with the Biometrics Management Office (operated by the U.S. Department of the Army), the GSA's Office of Smart Card Initiatives and UK's Biometrics Working Group. The BC co-chairs have recently provided testimony on biometrics to the Commission on Child Online Protection (COPA).

Dated: August 21, 2000.
Karen H. Brown,
Deputy Director, NIST.

[FR Doc. 00-21775 Filed 8-24-00; 8:45 am]

BILLING CODE 3510-13-M